DEPARTMENT OF TRANSPORTATION

Federal Aviation Administration

Notice of Intent To Rule on an Application To Impose and Use The Revenue from a Passenger Facility Charge (PFC) at Juneau International Airport, Juneau, AK

AGENCY: Federal Aviation Administration (FAA), DOT.

ACTION: Notice of intent to rule on application.

SUMMARY: The FAA proposes to rule and invites public comment on the application to impose and use the revenue from a PFC at Juneau International Airport under the provisions of the Aviation Safety and Capacity Expansion Act of 1990 (Title IX of the Omnibus Budget Reconciliation Act of 1990) (Pub. L. 101-508) and part 158 of the Federal Aviation Regulations (14 CFR part 158).

DATES: Comments must be received on or before April 16, 2001.

ADDRESSES: Comments on this application may be mailed or delivered in triplicate to the FAA at the following address: David S. Stelling, Acting Manager, Alaskan Region Airports Division, 222 West 7th, Box 14, Anchorage, AK 99513.

In addition, one copy of any comments submitted to the FAA must be mailed or delivered to Mr. Allan A. Heese, Airport Manager, of the Juneau International Airport at the following address: Juneau International Airport, 1873 Shell Simmons Drive, Juneau, AK 99801.

Air carriers and foreign air carriers may submit copies of written comments previously provided to the Juneau International Airport under § 158.23 of part 158.

FOR FURTHER INFORMATION CONTACT: Debbie Roth, Programming Specialist, Alaskan Region Airports Division, Planning and Programming Branch, AAL-611A, 222 W 7th, Box 14, Anchorage, AK 99513, (907) 271-5443. The application may be reviewed in person at this same location.

SUPPLEMENTARY INFORMATION: The FAA proposes to rule and invites public comment on the application (#01-03-C-00-JNU) to impose and use the revenue from a PFC at Juneau International Airport under the provisions of the Aviation Safety and Capacity Expansion Act of 1990 (Title IX of the Omnibus Budget Reconciliation Act of 1990) (Pub. L. 101-508) and part 158 of the Federal Aviation Regulations (14 CFR part 158).

On February 21, 2001, the FAA determined that the application to impose and use the revenue from a PFC submitted by City and Borough of Juneau, Juneau International Airport, Juneau, Alaska, was substantially complete within the requirements of § 158.25 of part 158. The FAA will approve or disapprove the application, in whole or in part, no later than May 22, 2001.

The following is a brief overview of the application.

Application Number: 01-03-C-00-JNU.

Level of the proposed PFC: $4.50.

Proposed Charge Effective Date: April 1, 2001.

Proposed Charge Expiration Date: July 30, 2001.

Total Estimated PFC Revenue: $343,885.

Brief Description of Proposed Projects:

Expand runway safety area, phase I; Prepared runway safety area environmental impact statement; PFC administration Costs; Rehabilitate terminal roof and exterior wall; Acquire land for noise compatibility; Acquire aircraft rescue and firefighting vehicle.

Class or Classes of Air Carriers which the Public Agency has Requested not to be Required to Collect PFCs: None.

Any person may inspect the application in person at the FAA office listed above under FOR FURTHER INFORMATION CONTACT and at the FAA regional Airports office located at: FAA, Alaskan Region Airports Division, Anchorage, Alaska.

In addition, any person may, upon request, inspect the application, notice and other documents germane to the application in person at the Juneau International Airport.

Issued in Anchorage, Alaska on February 28, 2001.
David S. Stelling,
Acting Manager, Airports Division, Alaskan Region.

[FR Doc. 01-6378 Filed 3-11-01; 8:45 am]

BILLING CODE 4910-13-M